DEPARTMENT OF TRANSPORTATION

Federal Aviation Administration

14 CFR Part 71

[Docket No. FAA-2010-1103 Airspace Docket No. 10-AAL-18]

Revision of Class E Airspace; Savoonga, AK

AGENCY: Federal Aviation Administration (FAA), DOT.

ACTION: Final rule.

SUMMARY: This action revises Class E airspace at the Savoonga Airport, Savoonga, AK. The amendment of three Standard Instrument Approach Procedures (SIAPs) plus the creation of one new SIAP at the Savoonga Airport has made this action necessary to enhance safety and air traffic management of Instrument Flight Rules (IFR) operations.

DATES: Effective 0901 UTC, May 5, 2011. The Director of the Federal Register approves this incorporation by reference action under title 1, Code of Federal Regulations, part 51, subject to the annual revision of FAA Order 7400.9 and publication of conforming amendments.

FOR FURTHER INFORMATION CONTACT: Martha Dunn, Federal Aviation Administration, 222 West 7th Avenue, Box 14, Anchorage, AK 99513-7587; telephone number (907) 271-5898; fax: (907) 271-2850; e-mail: martha.ctr.dunn@faa.gov. Internet address: http://www.faa.gov/about/office_org/headquarters_offices/ato/service_units/systemops/fs/alaskan/rulemaking/.

SUPPLEMENTARY INFORMATION:

History

On Monday, December 13, 2010, the FAA published a notice of proposed rulemaking in the Federal Register to amend Class E airspace at Savoonga, AK (75 FR 77574).

Interested parties were invited to participate in this rulemaking proceeding by submitting written comments on the proposal to the FAA. One comment was received. The commenter suggested that the portion of the proposed Class E airspace overlaying Russian airspace should be excluded. The FAA has found merit in this and has adjusted the airspace area to exclude that area outside of U.S. airspace. The FAA also noted that the geographic coordinates for the Savoonga Airport cited in the NPRM were not rounded. This action corrects that error.

The Class E airspace areas designated as 700/1,200 ft. transition areas are published in paragraph 6005 of FAA Order 7400.9U, Airspace Designations and Reporting Points, dated August 18, 2010, and effective September 15, 2010, which is incorporated by reference in 14 CFR 71.1. The Class E airspace designations listed in this document will be published subsequently in the Order.

The Rule

This action amends Title 14 Code of Federal Regulations (14 CFR) part 71 by revising Class E airspace to accommodate three amended SIAPs and one new SIAP at the Savoonga Airport, Savoonga, AK. This Class E airspace will provide adequate controlled airspace upward from 700 feet and 1,200 feet above the surface for the safety and management of IFR operations at Savoonga Airport. The 1,200 foot controlled airspace will extend into the Norton Sound Low Offshore Airspace Area and that airspace will be redefined in a future rulemaking action. With the exception of editorial changes, and the changes described above, this rule is the same as that proposed in the NPRM.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Because this is a routine matter that will only affect air traffic procedures and air navigation, it is certified that this rule will not have a significant economic impact on a substantial number of small entities under the criteria of the Regulatory Flexibility Act.

The FAA's authority to issue rules regarding aviation safety is found in Title 49 of the United States Code. Subtitle 1, section 106 describes the authority of the FAA Administrator. Subtitle VII, Aviation Programs, describes in more detail the scope of the agency's authority.

This rulemaking is promulgated under the authority described in subtitle VII, part A, subpart 1, section 40103, Sovereignty and use of airspace. Under that section, the FAA is charged with prescribing regulations to ensure the safe and efficient use of the navigable airspace. This regulation is within the scope of that authority because it creates Class E airspace sufficient in size to contain aircraft executing instrument procedures for the Savoonga Airport and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9U, Airspace Designations and Reporting Points, dated August 18, 2010, and effective September 15, 2010, is amended as follows:

* * * * *

Paragraph 6005 Class E airspace extending upward from 700 feet or more above the surface of the earth.

* * * * *

AAL AK E5 Savoonga, AK [Revised]

Savoonga Airport, AK

(Lat. 63°41′11″ N., long. 170°29′36″ W.)

That airspace extending upward from 700 feet above the surface within a 7.0-mile radius of the Savoonga Airport, AK, and within 4 miles either side of the 060° bearing from the Savoonga Airport, extending from the 7.0-mile radius to 8.5 miles northeast of the Savoonga Airport; and that airspace extending upward from 1,200 feet above the surface within a 73-mile radius of the Savoonga Airport AK, excluding that portion extending west of a line from lat. 68°00′00″ N., long. 168°58′23″ W., to lat 65°00′00″ N., long. 168°58′23″ W., to lat. 62°35′00″ N., long. 175°00′00″ W.

Issued in Anchorage, AK, on February 4, 2011.
James M. Miller,
Acting Manager, Alaska Flight Services Information Area Group.

[FR Doc. 2011-3247 Filed 2-14-11; 8:45 am]

BILLING CODE 4910-13-P